DEPARTMENT OF ENERGY

Federal Energy Regulatory Commission

[Docket No. RP00-260-002]

Texas Gas Transmission Corporation; Notice of Proposed Changes in FERC Gas Tariff

July 7, 2000.

Take notice that on June 30, 2000, Texas Gas Transmission Corporation (Texas Gas) tendered for filing, as part of its FERC Gas Tariff, First Revised Volume No. 1, the following revised tariff sheets, with an effective date of June 1, 2000:

Substitute Original Sheet No. 11D

Pro forma Sub Thirty-second Revised Sheet No. 12

Pro forma Original Sheet No. 12.01

Texas Gas states that this filing is being submitted in compliance with the Commission's May 31 Suspension Order in the referenced docket. In that Order, the Commission directed Texas Gas, within 30 days, to take certain actions as described below:

1. File a revised tariff sheet with a stated rate for one-day contracts, winter and summer, under the proposed STF Rate Schedule;

2. Fully explain the basis and justification for the premiums Texas Gas assigned to the differentiated rates under the proposed STF Rate Schedule;

3. Provide a basis and justification for having seasonal rates for short-term, firm service, but not for interruptible service (i.e., explain why interruptible rates should not follow the same seasonal pattern as firm short-term rates);

4. Explain why Texas Gas has offered term differentiated rates for short-term service and not for long-term service, as well;

5. Revise the proposed STF service to reflect distance sensitive rates; and

6. Explain the need for continued sales of storage gas by Texas Gas.

Texas Gas states that copies of this filing have been served upon Texas Gas's jurisdictional customers and interested state commissions.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-17743 Filed 7-12-00; 8:45 am]

BILLING CODE 6717-01-M